DEPARTMENT OF ENERGY

Federal Energy Regulatory Commission

[Docket Nos. IC10-6-001 and IC10-6Q-001]

Commission Information Collection Activities (FERC Form Nos. 6 and 6-Q); Comment Request; Submitted for OMB Review

April 19, 2010.

AGENCY: Federal Energy Regulatory Commission.

ACTION: Notice.

SUMMARY: In compliance with the requirements of section 3507 of the Paperwork Reduction Act of 1995, 44 U.S.C. 3507, the Federal Energy Regulatory Commission (Commission or FERC) has submitted the information collections described below to the Office of Management and Budget (OMB) for review of the information collection requirements. Any interested person may file comments directly with OMB and should address a copy of those comments to the Commission as explained below. The Commission issued a Notice in the Federal Register (75FR5061, 2/1/2010) requesting public comments. FERC received one comment on the FERC Form No. 6 and FERC Form No. 6Q and has made this notation in its submissions to OMB.

DATES: Comments on the collections of information are due by May 26, 2010.

ADDRESSES: Address comments on the collections of information to the Office of Management and Budget, Office of Information and Regulatory Affairs, Attention: Federal Energy Regulatory Commission Desk Officer. Comments to OMB should be filed electronically, c/o oira_submission@omb.eop.gov and include OMB Control Numbers 1902-0022 (for FERC Form No. 6) and 1902-0206 (for FERC Form No. 6Q) as points of reference. For comments that pertain to only one of the collections, specify the appropriate collection and OMB Control Number. The Desk Officer may be reached by telephone at 202-395-4638.

A copy of the comments should also be sent to the Federal Energy Regulatory Commission and should refer to Docket Nos. IC10-6-001 and IC10-6Q-001. (If comments apply to only one of the collections, indicate the corresponding docket and collection number.) Comments may be filed either electronically or in paper format. Those persons filing electronically do not need to make a paper filing. Documents filed electronically via the Internet must be prepared in an acceptable filing format and in compliance with the Federal Energy Regulatory Commission submission guidelines. Complete filing instructions and acceptable filing formats are available at http://www.ferc.gov/help/submission-guide/electronic-media.asp. To file the document electronically, access the Commission's Web site and click on Documents & Filing, E-Filing (http://www.ferc.gov/docs-filing/efiling.asp), and then follow the instructions for each screen. First time users will have to establish a user name and password. The Commission will send an automatic acknowledgement to the sender's e-mail address upon receipt of comments.

For paper filings, the comments should be submitted to the Federal Energy Regulatory Commission, Secretary of the Commission, 888 First Street, NE., Washington, DC 20426, and should refer to Docket Nos. IC10-6-001 and IC10-6Q-001 (or the appropriate docket number, if the comments pertain only to one of the collections).

Users interested in receiving automatic notification of activity in FERC Docket Number IC10-6 may do so through eSubscription at http://www.ferc.gov/docs-filing/esubscription.asp. However, due to a system issue, Docket Number IC10-6Q is not available at this time for eSubscription. All comments may be viewed, printed or downloaded remotely via the Internet through FERC's homepage using the “eLibrary” link. For user assistance, contact ferconlinesupport@ferc.gov or toll-free at (866) 208-3676 or for TTY, contact (202) 502-8659.

FOR FURTHER INFORMATION CONTACT: Ellen Brown may be reached by telephone at (202) 502-8663, by fax at (202) 273-0873, and by e-mail at DataClearance@FERC.gov.

SUPPLEMENTARY INFORMATION: For the purpose of publishing this notice and seeking public comment, FERC requests comments on the following information collections:

• FERC Form No. 6 (“FERC-6”), “Annual Report of Oil Pipeline Companies,” implemented in 18 CFR Sections 357.1, 357.2, and 385.2011; OMB Control No. 1902-0022, and

• FERC Form No. 6-Q (“FERC-6Q” or “FERC-6-Q”), “Quarterly Financial Report of Oil Pipeline Companies,” implemented in 18 CFR Section 357.4; OMB Control No. 1902-0206.

The associated regulations, information collections, burdens, and OMB clearance numbers will continue to remain separate and distinct.

Under the Interstate Commerce Act (ICA) (49 U.S.C. 1, 20, 54 Stat. 916), the Commission is authorized and empowered to make investigations and to collect and record data to the extent FERC may consider to be necessary or useful for the purpose of carrying out the provisions of the ICA. FERC must ensure just and reasonable rates for transportation of crude oil and petroleum products by pipelines in interstate commerce.

The information collected by FERC Form Nos. 6 and 6-Q are used by the Commission to carry out its responsibilities in implementing the statutory provisions of the ICA, including the authority to prescribe rules and regulations concerning accounts, records and memoranda, as necessary or appropriate. Financial accounting and reporting provides needed information concerning a company's past performance and its future prospects. Without reliable financial statements prepared in accordance with the Commission's Uniform System of Accounts and related regulations, the Commission would be unable to accurately determine the costs that relate to a particular time period, service or line of business.

FERC uses data from the FERC Form Nos. 6 and 6-Q to assist in: (1) Implementation of its financial audits and programs, (2) continuous review of the financial condition of regulated companies, (3) assessment of energy markets, (4) rate proceedings and economic analyses, and (5) research for use in litigation.

Financial information reported on the annual FERC Form 6 and quarterly FERC Form 6-Q provides FERC, as well as customers, investors and others, an important tool to help identify emerging trends and issues affecting jurisdictional entities within the energy industry. It also provides timely disclosures of the impacts that new accounting standards, or changes in existing standards, have on jurisdictional entities, as well as the economic effects of significant transactions, events, and circumstances. The reporting of this information by jurisdictional entities assists the Commission in its analysis of profitability, efficiency, risk and in its overall monitoring.

A summary of the comment received (from the 60-day Notice) and FERC's response follow.

Comment: The Commission received comments from only one commenter, the Bureau of Economic Analysis (BEA), U.S. Department of Commerce. BEA endorsed the continued use of the information contained in the FERC Form Nos. 6 and 6Q, stating that:

“BEA uses FERC tabulations FERC forms 6 and 6Q indirectly. They are used to estimate the U.S. Census Bureau's Construction Value Put-In Place (VPIP) for oil pipeline utilities. Census VPIP serves as a major source data input to the National Income and Product Account (NIPA) for structures investment estimates. NIPA estimates for electric, gas, and pipeline structures rely upon the VPIP source data * * *. The FERC Form 6 is used indirectly as well to derive annual pipeline transportation output in the Industry Accounts program. Data obtained by the Industry Accounts from the Association of Oil Pipelines “Shifts in Petroleum Transportation” report is based, in part, on this survey. BEA currently uses this FERC information indirectly through the VPIP program and the trade association, and it is considered an indispensable data source to the NIPA estimates and Industry Accounts estimates.”

FERC's response: The Commission is appreciative of BEA's continued support for the Commission's information collection programs.

ACTION: The Commission is requesting a three-year extension of the current FERC Form No. 6 and FERC Form No. 6Q requirements, with no changes.

Burden Statement: The estimated annual public reporting burdens and the associated public costs follow.1 2

¹ These figures may not be exact, due to rounding and/or truncating.

² Order 620 in Docket No. RM99-10 (issued 12/13/2000, available at http://elibrary.ferc.gov/idmws/common/opennat.asp?fileID=8370177) established filing thresholds. The filing thresholds for filing all or part of the FERC-6 are based on the filer's annual jurisdictional operating revenues, for each of the three previous calendar years:

• File complete Form 6: Revenues $500,000 or more

• File only Pages 1, 301, and 700: Revenues more than $350,000 but less than $500,000

• File only Pages 1 and 700: Revenues of $350,000 or less.

See the instructions at http://www.ferc.gov/docs-filing/forms/form-6/form-6.pdf for more information.

The estimated annual totals for all filers completing all or part of the FERC-6 are: 166 filers and 26,657 hours, for a cost of $1,767,092.

FERC data collection | Projected number of respondents | Number of annual responses per respondent | Projected average burden hours per response | Total annual burden hours ¹
| (1) | (2) | (3) | (1) × (2) × (3)
FERC-6 (Complete form) ² | 142 | 1 | 186 | 26,412
FERC-6 (Pages 1, 301, and 700 only) ² | 1 | 1 | 15 | 15
FERC-6 (Pages 1 and 700 only) ² | 23 | 1 | 10 | 230
FERC-6Q | 142 | 3 | 150 | 63,900

The total annual cost to respondents 1 2 3 is estimated as follows.

³ Using 2,080 hours/year, the estimated cost for 1 full-time employee is $137,874/year. The estimated hourly cost is $66.29 (or $137,874/2,080).

FERC data collection | Total annual burden hours | Estimated hourly cost ³ ($) | Estimated total annual cost to respondents ($)¹
| (1) | (2) | (2) × (1)
FERC-6 (Complete form) ² | 26,412 | $66.29 | $1,750,851
FERC-6 (Pages 1, 301, and 700 only) ² | 15 | 66.29 | 994
FERC-6 (Pages 1 and 700 only) ² | 230 | 66.29 | 15,247
FERC-6Q | 63,900 | 66.29 | 4,235,931

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burden of the collections of information on those who are to respond, including the use of appropriate automated, electronic, mechanical, or other technological collection techniques or other forms of information technology, e.g., permitting electronic submission of responses.

Kimberly D. Bose,
Secretary.

S

[FR Doc. 2010-9529 Filed 4-23-10; 8:45 am]

BILLING CODE 6717-01-P